ENVIRONMENTAL PROTECTION AGENCY

[FRL-7524-3]

Notice of Open Meeting, Environmental Financial Advisory Board, August 4-5, 2003

The Environmental Protection Agency's (EPA) Environmental Financial Advisory Board (EFAB) will hold an open meeting of the full Board in San Francisco, California on August 4-5, 2003. The meeting will be held at the Bankers Club, Bank of America Building, in the Pacific Room. The Monday, August 4 session will run from 9 a.m. to 5 p.m. and the August 5 session will begin at 8:30 a.m. and end at 11 a.m.

EFAB is chartered with providing advice and recommendations to the EPA Administrator and program offices on environmental finance. The purpose of this meeting is to discuss progress with work products under EFAB's current strategic action agenda and to develop an action agenda to direct the Board's ongoing and new activities through FY 2004.

The meeting is open to the public, but seating is limited. For further information, please contact Vanessa Bowie, EFAB Coordinator, U.S. EPA at (202) 564-5186.

Dated: July 1, 2003.
Maryann Froehlich,
Acting Comptroller.

[FR Doc. 03-17206 Filed 7-7-03; 8:45 am]

BILLING CODE 6560-50-P